NATIONAL ARCHIVES AND RECORDS ADMINISTRATION

[NARA-2016-016]

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide agencies with mandatory instructions for what to do with records when agencies no longer need them for current Government business. The instructions authorize agencies to preserve records of continuing value in the National Archives of the United States and to destroy, after a specified period, records lacking administrative, legal, research, or other value. NARA publishes notice in the Federal Register for records schedules in which agencies propose to destroy records not previously authorized for disposal or to reduce the retention period of records already authorized for disposal. NARA invites public comments on such records schedules, as required by 44 U.S.C. 3303a(a).

DATES: NARA must receive requests for copies in writing by March 24, 2016. Once NARA appraises the records, we will send you a copy of the schedule you requested. We usually prepare appraisal memoranda that contain additional information concerning the records covered by a proposed schedule. You may also request these. If you do, we will also provide them once we have completed the appraisal. You have 30 days after we send you these requested documents in which to submit comments.

ADDRESSES: You may request a copy of any records schedule identified in this notice by contacting Records Management Services (ACNR) using one of the following means:

Mail: NARA (ACNR); 8601 Adelphi Road; College Park, MD 20740-6001.

Email: request.schedule@nara.gov.

Fax: 301-837-3698.

You must cite the control number, which appears in parentheses after the name of the agency that submitted the schedule, and a mailing address. If you would like an appraisal report, please include that in your request.

FOR FURTHER INFORMATION CONTACT: Margaret Hawkins, Director, by mail at Records Management Services (ACNR); National Archives and Records Administration; 8601 Adelphi Road; College Park, MD 20740-6001, by phone at 301-837-1799, or by email at request.schedule@nara.gov.

SUPPLEMENTARY INFORMATION: Each year, Federal agencies create billions of records on paper, film, magnetic tape, and other media. To control this accumulation, agency records managers prepare schedules proposing retention periods for records and submit these schedules for NARA's approval. These schedules provide for timely transfer into the National Archives of historically valuable records and authorize disposal of all other records after the agency no longer needs them to conduct its business. Some schedules are comprehensive and cover all the records of an agency or one of its major subdivisions. Most schedules, however, cover records of only one office or program or a few series of records. Many of these update previously approved schedules, and some include records proposed as permanent.

The schedules listed in this notice are media-neutral unless otherwise specified. An item in a schedule is media-neutral when an agency may apply the disposition instructions to records regardless of the medium in which it has created or maintains the records. Items included in schedules submitted to NARA on or after December 17, 2007, are media-neutral unless the item is specifically limited to a specific medium. (See 36 CFR 1225.12(e).)

Agencies may not destroy Federal records without the approval of the Archivist of the United States. The Archivist grants this approval only after thorough consideration of the records' administrative use by the agency of origin, the rights of the Government and of private people directly affected by the Government's activities, and whether or not the records have historical or other value.

In addition to identifying the Federal agencies and any subdivisions requesting disposition authority, lists the organizational unit(s) accumulating the records or lists that the schedule has agency-wide applicability (in the case of schedules that cover records that may be accumulated throughout an agency); provides the control number assigned to each schedule, the total number of schedule items, and the number of temporary items (the records proposed for destruction); and includes a brief description of the temporary records. The records schedule itself contains a full description of the records at the file unit level as well as their disposition. If NARA staff has prepared an appraisal memorandum for the schedule, it also includes information about the records. You may request additional information about the disposition process at the addresses above.

Schedules Pending

1. Department of Agriculture, Farm Service Agency (DAA-0145-2014-0005, 2 items, 1 temporary item). Records relating to the number of agency positions and grade levels. Proposed for permanent retention are organizational analysis and planning records related to changes in organizational functions.

2. Department of Agriculture, Farm Service Agency (DAA-0145-2014-0006, 5 items, 3 temporary items). Complaint files of allegations not related to a specific investigation, and routine investigative and audit case files. Proposed for permanent retention are significant investigative and audit case files.

3. Department of Agriculture, Farm Service Agency (DAA-0145-2015-0005, 2 items, 1 temporary item). Agency handbooks and directives for non-originating offices. Proposed for permanent retention are agency handbooks and directives for originating offices.

4. Department of Health and Human Services, Health Resources and Services Administration (DAA-0512-2014-0004, 66 items, 44 temporary items). Comprehensive agency records schedule, including financial records, audit reports, contracts, interagency agreements, memorandums, correspondence files, general subject files, planning records, international affairs records, public health association records, budget records, and legislative affairs records. Proposed for permanent retention are records related to organization management, directives, evaluation plans, information request reports, program delegations of authority, and records related to regulations, national standards for medical services, maternal and child health regulations, health resources reports, legislative histories, and official correspondence.

5. Department of Homeland Security, Bureau of Customs and Border Protection (DAA-0568-2015-0002, 2 items, 2 temporary items). Audio and video recordings activated by law enforcement incidents.

6. Department of Justice, Bureau of Alcohol, Tobacco, Firearms, and Explosives (DAA-0436-2012-0006, 6 items, 4 temporary items). Records related to the manufacture and export of firearms. Proposed for permanent retention are annual reports of statistical data.

7. Department of the Navy, Agency-wide (DAA-NU-2015-0007, 36 items, 30 temporary items). Records related to financial management, including budget evaluations, purchase requests, and related records. Proposed for permanent retention are records on policy, audit reports, appropriation language, program objectives, charters, and financial statements.

8. Department of State, Bureau of Administration (DAA-0059-2015-0017, 1 item, 1 temporary item). Records of the Systematic Review Program Division including copies of documentation supporting declassification review.

9. Department of State, Bureau of Conflict and Stabilization Operations (DAA-0059-2015-0005, 2 items, 2 temporary items). Records of the Office of Policy including background and reference files related to regional and thematic conflicts.

10. Department of State, Bureau of Diplomatic Security (DAA-0059-2015-0013, 4 items, 4 temporary items). Records of the Project Coordination Branch including files related to physical security standards of government facilities.

11. Department of Transportation, Federal Railroad Administration (DAA-0399-2013-0005, 4 items, 3 temporary items). Records related to general agreements, approved loans, and denied loans. Proposed for permanent retention are national and bilateral agreements.

12. Department of the Treasury, Internal Revenue Service (DAA-0058-2016-0001, 7 items, 7 temporary items). Continuing education records for tax professionals to include vendor contract materials such as accreditation files, applications, survey results, and related documents.

13. Department of the Treasury, Internal Revenue Service (DAA-0058-2016-0005, 1 item, 1 temporary item). Foreign financial asset records of individual and corporate taxpayers.

14. Consumer Financial Protection Bureau, Office of the Director (DAA-0587-2013-0003, 5 items, 4 temporary items). Executive Secretary records including working papers, routine correspondence and associated trackers, and non-substantive policy guidance materials. Proposed for permanent retention are high-level Bureau reports.

15. Environmental Protection Agency, Agency-wide (DAA-0412-2013-0021, 5 items, 4 temporary items). Environmental program and project records including records relating to the regulation of pesticides and toxic substances, monitoring of air and water quality, scientific research, and other programs. Proposed for permanent retention are significant environmental program and project records.

16. Federal Communications Commission, International Bureau (DAA-0173-2015-0010, 1 item, 1 temporary item). Master files of an electronic information system used to track broadcast transmission applicants.

17. National Archives and Records Administration, Research Services (N2-36-15-1, 4 items, 4 temporary items). Records of the Department of Homeland Security, Customs and Border Protection, consisting of administrative records related to expenditures for consumable goods and travel expenses for training. These records were accessioned to the National Archives and lack sufficient historical value to warrant continued preservation.

18. National Archives and Records Administration, Research Services (N2-208-16-1, 1 item, 1 temporary item). Residual records of the Office of War Information which are duplicative of other records found in this record group. These records were accessioned to the National Archives but lack sufficient historical value to warrant continued preservation.

19. Securities and Exchange Commission, Agency-wide (DAA-0266-2014-0008, 2 items, 1 temporary item). Email records of non-senior agency employees. Proposed for permanent retention are email records of senior-level agency officials.

20. Securities and Exchange Commission, Office of Credit Ratings (DAA-0266-2016-0006, 10 items, 7 temporary items). Records related to oversight of nationally recognized statistical rating organizations, including draft rulemaking and official action records, records incidental to the reporting, and internal studies and research projects. Proposed for permanent retention are reports filed with the Commission, final rulemaking and official action records, and external guidance.

Dated: February 12, 2016.
Laurence Brewer,
Director, Records Management Operations.

[FR Doc. 2016-03763 Filed 2-22-16; 8:45 am]

BILLING CODE 7515-01-P